DEPARTMENT OF HEALTH AND HUMAN SERVICES

Centers for Medicare & Medicaid Services

[CMS Computer Match No. 2016-02]

HHS Computer Match No. 1603; DoD-DMDC Match No. 12

AGENCY: Centers for Medicare & Medicaid Services (CMS), Department of Health and Human Services (HHS).

ACTION: Notice of computer matching program.

SUMMARY: In accordance with the requirements of the Privacy Act of 1974, as amended, this Notice re-establishes a computer matching agreement between CMS and the Department of Defense (DoD). We have provided background information about the proposed matching program in the SUPPLEMENTARY INFORMATION section below. The Privacy Act requires that CMS provide an opportunity for interested persons to comment on the proposed matching program. We may defer implementation of this matching program if we receive comments that persuade us to defer implementation. See “Effective Dates” section below for comment period.

DATES: Effective Dates: Comments are invited on all portions of this Notice. Public comments must be submitted within 30-days of publication of this Notice. This computer matching program will become effective no sooner than 40 days after the report of the computer matching program is sent to the Office of Management and Budget and copies of the agreement are sent to Congress, or 30 days after publication in the Federal Register, whichever is later.

ADDRESSES: The public should send comments to: CMS Privacy Act Officer, Division of Security, Privacy Policy & Governance, Information Security & Privacy Group, Office of Enterprise Information, CMS, Room N1-24-08, 7500 Security Boulevard, Baltimore, Maryland 21244-1850. Comments received will be available for review at this location, by appointment, during regular business hours, Monday through Friday from 9:00 a.m.-3:00 p.m., Eastern Time zone.

FOR FURTHER INFORMATION CONTACT: Karen Mandelbaum, Director, Division of Security, Privacy Policy & Governance, Information Security & Privacy Group, Office of Enterprise Information, CMS, Mail stop N1-24-08, 7500 Security Boulevard, Baltimore, Maryland 21244-1850, Office Phone: 410-786-1762, Email: Karen.Mandelbaum@cms.hhs.gov.

SUPPLEMENTARY INFORMATION: The Computer Matching and Privacy Protection Act of 1988 (Pub. L. 100-503), amended the Privacy Act of 1974 (5 U.S.C. 552a) by describing the manner in which computer matching involving Federal agencies could be performed and adding certain protections for individuals applying for and receiving Federal benefits.

Section 7201 of the Omnibus Budget Reconciliation Act of 1990 (Pub. L. 101-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Board approval of the matching agreements;

3. Furnish detailed reports about matching programs to Congress and the Office of Management and Budget;

4. Notify applicants and beneficiaries that their records are subject to matching; and,

5. Verify match findings before reducing, suspending, terminating, or denying an individual's benefits or payments.

CMS Computer Matches Subject to the Privacy Act

CMS has taken action to ensure that all computer matching programs that this Agency participates in comply with the requirements of the Privacy Act of 1974, as amended.

Emery Csulak,
Director, ISPG, Chief Information Security Officer, and Senior Official for Privacy, Centers for Medicare & Medicaid Services.

CMS Computer Match No. 2016-02

HHS Computer Match No. 1603

DoD-DMDC Match No. 12

NAME:

Computer Matching Agreement between the Centers for Medicare & Medicaid Services and the Defense Manpower Data Center Department of Defense for Disclosure of Enrollment and Eligibility Information for Military Health System Beneficiaries who are Medicare Eligible”

SECURITY CLASSIFICATION:

Unclassified.

PARTICIPATING AGENCIES:

The Centers for Medicare & Medicaid Services (CMS); and Department of Defense (DoD), Defense Manpower Data Center and the Office of the Assistant Secretary of Defense Health Affairs/Defense Health Agency.

AUTHORITY FOR CONDUCTING MATCHING PROGRAM:

This computer matching agreement is executed to comply with the Privacy Act of 1974 (Title 5 United States Code (U.S.C.) 552a), as amended, (as amended by Public Law (Pub. L.) 100-503, the Computer Matching and Privacy Protection Act of 1988), the Office of Management and Budget, Circular A-130, titled “Management of Federal Information Resources”, 61 Federal Register 6435 (February 20, 1996), and the Office of Management and Budget guidelines pertaining to computer matching, 54 Federal Register 25818 (June 19, 1989).

Prior to 1991, CHAMPUS entitlement terminated when any individual became eligible for Medicare Part A on a non-premium basis. The National Defense Authorization Act(s) (NDAA) for Fiscal Years (FY) 1992 and 1993 (Pub. L. 102-190) § 704, provide for reinstatement of CHAMPUS as second payer for beneficiaries entitled to Medicare on the basis of disability/End Stage Renal Disease (ESRD) only if they also enroll in Medicare Part B.

This agreement implements the information matching provisions of the following section NDAA, FY 1992 (Pub. L. 102-190) Sections 704 and 713; FY 1993 (Pub. L. 102-484) Section 705. FY 1996 (Pub. L. 104-106) Section 732, directed the administering Secretaries to develop a mechanism for notifying beneficiaries of their ineligibility for CHAMPUS when is due to enrollment in Medicare Part A only; and FY 2001 (Pub. L. 106-398) Sections 711 and 712.

PURPOSE(S) OF THE MATCHING PROGRAM:

The purpose of this agreement is to establish the conditions, safeguards and procedures under which CMS will disclose Medicare enrollment information to the DoD, Defense Manpower Data Center, and Health Affairs/Defense Health Agency. The disclosure by CMS will provide Defense Health Agency with the information necessary to determine if Military Health System beneficiaries (other than dependents of active duty personnel), who are enrolled in Medicare Part B, are also eligible to receive continued military health care benefits. This disclosure will provide the Defense Health Agency with the information necessary to meet the Congressional mandate outlined in legislative provisions in the NDAA listed above.

Current law requires the Defense Health Agency to discontinue military health care benefits to Military Health System beneficiaries who become Medicare eligible without enrolling in Medicare Part B. In order for the Defense Health Agency to meet the requirements of current law, CMS agrees to disclose certain Medicare Part A and Part B enrollment data on the Military Health System beneficiary population, which will be used to determine the primary payer of healthcare claims for Military Health System beneficiaries. Defense Manpower Data Center will receive the results of the computer match performed by CMS and provide that information to the Defense Health Agency for use in coordinating the payment of healthcare claims.

DESCRIPTION OF RECORDS TO BE USED IN THE MATCHING PROGRAM:

DoD will use the system of records identified as Defense Manpower Data Center 02 DoD, entitled Defense Enrollment Eligibility Reporting System (DEERS), 77 Federal Register 69807 (November 21, 2012). Social Security Numbers of DoD beneficiaries will be released to CMS pursuant to the routine use set forth in the system notice, which provides that data may be released to CMS for the purpose of identifying DoD eligible beneficiaries both over and under 65 who are Medicare eligible.

Identification and Medicare status of Military Health System eligible beneficiaries will be provided to the Defense Health Agency to determine enrollment in Medicare Part B so that CMS and DoD are able to identify the primary payer of healthcare claims. Therefore, eligibility and enrollment information may also be maintained in the system of records identified as Defense Health Agency 07, entitled Military Health Information System (MHIS), 71 Federal Register 16127 (March 30, 2006).

CMS will use data from Enrollment Database (EDB), System No. 09-70-0502, 73 Federal Register 10249 (February 26, 2008) to perform them matches against the DEERS data. Matched data will be released pursuant to routine use No. 2 as set forth in the EDB system notice to Defense Manpower Data Center and will be maintain in the DEERS.

INCLUSIVE DATES OF THE MATCH:

The matching program shall become effective no sooner than 40 days after sending the report to the Office of Management and Budget, and 30 days after publication in the Federal Register and notice Congress, or whichever is later. The matching program will continue for 18 months from the effective date and may be renewed for an additional 12 month period as long as the statutory language for the matching program exists and other conditions are met.

[FR Doc. 2016-06125 Filed 3-17-16; 8:45 am]

BILLING CODE 4120-03-P